DEPARTMENT OF DEFENSE

Department of the Army

[Docket ID USA-2022-HQ-0002]

Submission for OMB Review; Comment Request

AGENCY: Department of the Army, Department of Defense (DoD).

ACTION: 30-Day information collection notice.

SUMMARY: The DoD has submitted to the Office of Management and Budget (OMB) for clearance the following proposal for collection of information under the provisions of the Paperwork Reduction Act.

DATES: Consideration will be given to all comments received by October 24, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Application for Establishment or Amendment of a Junior Reserve Officer's Training Corps or National Defense Cadet Corps Unit; DA Form 3126, DA Form 3126-1, DA Form 918B; OMB Control Number 0702-0021.

Type of Request: Reinstatement with change of a previously approved collection.

DA Form 3126

Number of Respondents: 70.

Responses per Respondent: 1.

Annual Responses: 70.

Average Burden per Response: 60 minutes.

Annual Burden Hours: 70.

DA Form 3126-1

Number of Respondents: 70.

Responses per Respondent: 1.

Annual Responses: 70.

Average Burden per Response: 60 minutes.

Annual Burden Hours: 70.

DA Form 918B

Number of Respondents: 18.

Responses per Respondent: 1.

Annual Responses: 18.

Average Burden per Response: 30 minutes.

Annual Burden Hours: 9.

Total

Annual Responses: 158.

Annual Burden Hours: 149.

Needs and Uses: The Junior Reserve Officers' Training Corps (JROTC) and the National Defense Cadet Corps (NDCC) are citizenship programs designed to motivate young people to be better citizens. Title 10, United States Code (U.S.C.), Section 2031 and 32 CFR part 542 provide for the establishment of units by the Department of the Army at public and private secondary schools. Educational institutions that desire to host a JROTC or NDCC unit may apply using DA Form 3126, “Application and Contract for Establishment of a Junior Reserve Officers' Training Corps Unit,” and 3126-1 “Application and Contract for Establishment of a National Defense Cadet Corps Unit,” respectively. The programs provide unique education opportunities for young citizens through their participation in a Federally sponsored curriculum while pursuing their civilian education. Students develop citizenship, leadership, communication skills, an understanding of the role of the U.S. army in support of national objectives, and an appreciation for the importance of physical fitness. The DA Form 918B, “Amendment to Application and Agreement for Establishment of Army Reserve Officers' Training Corps Unit,” is used by hosting institutions to amend or cancel existing contracts for JROTC or NDCC programs, as well as Senior ROTC programs authorized under 10 U.S.C. 103. The forms are prescribed by Army Regulation (AR) 145-1, “Senior Reserve Officers' Training Corps Program: Organization, Administration, and Training,” and AR 145-2, “Organization, Administration, Operation, and Support.”

Affected Public: Not-for-profit Institutions; State, Local, or, Tribal Government.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: September 20, 2022.
Aaron T. Siegel,
Alternate OSD Federal Register Liaison Officer, Department of Defense.

[FR Doc. 2022-20699 Filed 9-22-22; 8:45 am]

BILLING CODE 5001-06-P